DEPARTMENT OF COMMERCE

International Trade Administration

(A-421-811)

Notice of Final Determination of Sales at Less Than Fair Value: Purified Carboxymethylcellulose from the Netherlands

AGENCY: Import Administration, International Trade Administration, Department of Commerce.

SUMMARY: On December 16, 2004, the U.S. Department of Commerce (the Department) made its preliminary determination in the antidumping duty investigation of purified carboxymethylcellulose (CMC) from the Netherlands, which was amended on February 3, 2005, pursuant to comments received by Noviant B.V. We gave interested parties an opportunity to comment on the preliminary and amended determinations. Based upon the results of verification and our analysis of the comments received, we have made certain changes. We continue to find that purified CMC from the Netherlands was sold in the United States below normal value during the period of investigation. The final weighted-average dumping margins are listed below in the section entitled “Continuation of Suspension of Liquidation.”

EFFECTIVE DATE: May 17, 2005.

FOR FURTHER INFORMATION CONTACT: Angelica Mendoza, John Drury, David Kurt Kraus or Judy Lao, AD/CVD Operations, Office 7, Import Administration, International Trade Administration, U.S. Department of Commerce, 1401 Constitution Avenue, NW, Washington, DC 20230; telephone: (202) 482-3019, (202) 482-0195, (202) 482-7871, or (202) 482-7924, respectively.

SUPPLEMENTARY INFORMATION:

Background

On December 16, 2004, the Department determined that purified CMC from the Netherlands is being, or is likely to be, sold in the United States at less than fair value (LTFV), as provided in section 735(a) of the Tariff Act of 1930, as amended (the Act). See Preliminary Determination of Sales at Less Than Fair Value and Postponement of Final Determination: Purified Carboxymethylcellulose from the Netherlands, 69 FR 77205 (December 27, 2004) (Preliminary Determination). The two companies that the Department is investigating are Noviant B.V. (Noviant) and Akzo Nobel Surface Chemistry (ANSC). The Department released disclosure materials to interested parties on December 21, 2004.

On December 27, 2004, respondent Noviant submitted a letter to the Department alleging significant ministerial errors as defined by section 351.224(g) of the Department's regulations. On December 30, 2004, Aqualon Company (petitioner) also submitted a letter to the Department alleging an additional ministerial error. ANSC did not allege ministerial errors with respect to the Department's calculation of its preliminary dumping margin.

On January 21, 2005, petitioner and Noviant requested that a public hearing be held for this case. From January 31, 2005, through February 4, 2005, Department officials verified constructed value information submitted by Noviant. See Memorandum to Neal M. Halper, Director, Office of Accounting, through Theresa L. Caherty, Program Manager, “Verification Report on the Constructed Value Data Submitted by Noviant BV,” dated March 17, 2005.

On February 3, 2005, the Department published its amended preliminary determination of the antidumping duty investigation of purified CMC from the Netherlands. See Amended Preliminary Determination of Sales at Less Than Fair Value: Purified Carboxymethylcellulose from the Netherlands, 70 FR 5609 (February 3, 2005) (Amended Preliminary Determination). See also Memorandum to Richard O. Weible, Director, Office 7, “Allegation of Significant Ministerial Errors; Preliminary Determination in the Antidumping Duty Investigation of Purified Carboxymethylcellulose from the Netherlands” dated January 27, 2005, a public version of which is on file in room B-099 of the main Commerce building. Since the Amended Preliminary Determination, the following events have occurred:

From February 14, 2005, through February 16, 2005, the Department verified U.S. sales information submitted by Noviant Inc. See the Memorandum to the File, through Abdelali Elouaradia, Program Manager, Office 7, “Verification of U.S. Sales Information Submitted by Noviant Inc.,” dated March 17, 2005. From February 21, 2005, through February 23, 2005, the Department verified U.S. sales information submitted by Akzo Nobel Cellulosic Specialties, Inc. (AN-US), ANSC's U.S. affiliate. See the Memorandum to the File, through Abdelali Elouaradia, Program Manager, Office 7, “Verification of U.S. Sales Information Submitted by AN-US,” dated March 24, 2005. From February 21, 2005, through February 25, 2005, Department officials verified third country and U.S. sales information submitted by Noviant. See the Memorandum to the File, through Abdelali Elouaradia, Program Manager, Office 7, “Verification of Third Country and U.S. Sales Information Submitted by Noviant B.V. (Noviant BV),” dated March 17, 2005. From February 28, 2005, to March 4, 2005, Department officials verified home and U.S. market sales data submitted by ANSC. See the Memorandum to the File, through Abdelali Elouaradia, Program Manager, Office 7, “Verification of Home Market and U.S sales in the Netherlands,” dated March 31, 2005.

On March 24, 2005, petitioner submitted comments for consideration in the Department's final margin calculation for Noviant and withdrew its request for a public hearing; and Noviant submitted its case brief. On March 25, 2005, Noviant withdrew its January 21, 2005, request for a public hearing. Since both parties withdrew their hearing requests, we did not hold a public hearing for this case. On March 29, 2005, petitioner filed its rebuttal brief in response to arguments made by Noviant in its case brief. Noviant did not file a rebuttal brief. On April 6, 2005, ANSC filed its case brief regarding the Department's March 31, 2005, verification report. Petitioner did not file any briefs or rebuttal briefs to coincide with ANSC's submission.

Scope of Investigation

For purposes of this investigation, the products covered are all purified carboxymethylcellulose (CMC), sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this investigation is classified in the Harmonized Tariff Schedule of the United States (HTSUS) at subheading 3912.31.00. This tariff classification is provided for convenience and customs purposes; however, the written description of the scope of this investigation is dispositive.

Period of Investigation

The period of investigation (POI) is April 1, 2003, through March 31, 2004. This period corresponds to the four most recent fiscal quarters prior to the filing of the petition on June 9, 2004.

Fair Value Comparisons

We calculated constructed export price, export price, and normal value based on the same methodologies used in the Preliminary Determination and Amended Preliminary Determination for Noviant. However, we made the following changes:

Noviant

We used the third country and U.S. sales databases submitted by Noviant after verification, which included revisions for minor corrections and findings from verification. We revised our treatment of the indirect selling expense calculation of Noviant Pte., an affiliate of Noviant that handles all of its sales to Asia. See the Memorandum from Barbara E. Tillman to Joseph A. Spetrini, “Issues and Decision Memorandum for the Final Determination of the Antidumping Duty Investigation of Purified Carboxymethylcellulose from the Netherlands,” dated May 10, 2005 (Decision Memo) at Comment 2. We corrected an inadvertent error in the Department's preliminary calculation of certain movement expenses incurred on sales by Noviant, which was not corrected in our Amended Preliminary Determination. See Decision Memo at Comment 3. We applied facts available to account for certain unreported U.S. sales of subject merchandise. We made an adjustment to account for the bad debt expenses incurred by Noviant. We revised Noviant's reported inventory carrying costs to reflect corrections presented at verification and to correct for errors discovered in our preliminary inventory carrying cost calculations. We used the shipment dates as the date of sale for sales where the date of shipment occurred prior to the issuance of an invoice. For a detailed discussion of the changes made to Noviant's final margin calculation, see the Memorandum to File, through Abdelali Elouaradia, Program Manager, Office 7, “Noviant's Final Determination Calculation Memorandum,” dated May 10, 2005.

ANSC

We used the U.S. database submitted by ANSC after verification in our margin calculations, which includes the minor corrections presented at verification. We made no changes to ANSC's final margin calculation, see the Memorandum to File, through Abdelali Elouaradia, Program Manager, Office 7, “ANSC's Final Determination Calculation Memorandum,” dated May 10, 2005.

Constructed Value

We calculated constructed value (CV) for Noviant based on the same methodologies used in the Preliminary Determination. However, we revised Noviant's general and administrative (G&A), research and development (R&D) and financial expense ratios consistent with the summary of findings section of the cost verification report. See Memorandum to Neal Halper, Director, Office of Accounting, through Theresa L. Caherty, Program Manager, “Constructed Value Calculation Adjustments for the Final Determination - Noviant BV,” dated May 10, 2005.

Verifications

As provided in section 782(i)(1) of the Act, we verified the information submitted by the respondents during January and February 2005. We used standard verification procedures, including examination of relevant accounting and production records, as well as original source documents provided by the respondents.

Analysis of Comments Received

All issues raised in the petitioner's and the respondents' case and rebuttal briefs are addressed in the May 10, 2005, Decision Memo, which is hereby adopted by this notice. Attached to this notice as an appendix is a list of the issues that the petitioner and the respondents have raised and to which we have responded in the Decision Memo. Parties can find a complete discussion of all issues raised in this investigation and the corresponding recommendations in this public memorandum, which is on file in the Department's Central Record Unit (CRU), room B-099 of the main Commerce building. In addition, a complete version of the Decision Memo can be accessed directly on the Web at http://ia.ita.doc.gov/frn/summary/list.htm. The paper copy and electronic version of the Decision Memo are identical in content.

Continuation of Suspension of Liquidation

In accordance with section 735(c)(1)(B)(ii) of the Act, we are directing the U.S. Customs and Border Protection (CBP) to continue to suspend liquidation of all imports of subject merchandise from the Netherlands that are entered, or withdrawn from warehouse, for consumption on or after December 27, 2004, the date of publication of the Preliminary Determination in the Federal Register. The CBP shall continue to require a cash deposit or the posting of a bond equal to the weighted-average amount by which the NV exceeds the EP or CEP, as indicated in the chart below. These suspension-of-liquidation instructions will remain in effect until further notice.

The weighted-average dumping margins are as follows:

Manufacturer/Exporter | POI | Weighted-Average Margin (percent)
Akzo Nobel Surface Chemistry | 04/01/03 - 03/31/04 | 13.39
Noviant BV | 04/01/03 - 03/31/04 | 14.88
All Others | 04/01/03 - 03/31/04 | 14.57

See Memoranda to the File, Final Determination Analysis for ANSC and Noviant, respectively, dated May 10, 2005. Public versions of our analysis memoranda are on file in the CRU.

ITC Notification

In accordance with section 735(d) of the Act, we have notified the U.S. International Trade Commission (ITC) of our determination. As our final determination is affirmative, the ITC will, within 45 days, determine whether these imports are materially injuring, or threatening material injury to, the U.S. industry. If the ITC determines that material injury, or threat of material injury, does not exist, the proceeding will be terminated and all securities posted will be refunded or canceled. If the ITC determines that such injury does exist, the Department will issue an antidumping duty order.

Notification to Interested Parties

This notice also serves as a reminder to parties subject to administrative protective order (APO) of their responsibility concerning the disposition of proprietary information disclosed under APO in accordance with section 351.305 of the Department's regulations. Timely notification of return or destruction of APO materials, or conversion to judicial protective order, is hereby requested. Failure to comply with the regulations and the terms of an APO is a sanctionable violation.

This determination is issued and published in accordance with sections 735(d) and 777(i)(1) of the Act.

Dated: May 10, 2005.
Joseph A. Spetrini,
Acting Assistant Secretary for Import Administration.

APPENDIX

List of Issues

Noviant

1. Request for Scope Modification to Exclude Certain CMC Products

2. Treatment of Noviant Pte. Ltd.'s Indirect Selling Expenses

3. Ministerial Error Allegation Relating to Noviant's Net U.S. Price Calculations

ANSC

4. ANSC's Reporting Methodology for Certain U.S. Sales

[FR Doc. E5-2466 Filed 5-16-05; 8:45 am]

[Billing Code: 3510-DS-S]